DEPARTMENT OF STATE

[Public Notice: 11343]

Notice of Department of State Sanctions Actions on Hong Kong Normalization

SUMMARY: The Secretary of State has imposed sanctions on six individuals pursuant to the President's Executive Order on Hong Kong Normalization.

DATES: The Secretary of State's determination regarding the six individuals identified in the SUPPLEMENTARY INFORMATION section was effective on January 15, 2021.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 4(a)(iii)(A) of Executive Order (E.O.) 13936, the Secretary of State, in consultation with the Secretary of the Treasury, or the Secretary of the Treasury, in consultation with the Secretary of State, may authorize the imposition of sanctions blocking all property or interests in property that are in the United States, that hereafter come within the United States, or that are in or hereafter come within the possession or control of any United States person, of any foreign person upon determining that the person met any criteria set forth in section 4 of E.O. 13936.

The Secretary of State has determined, pursuant to section 4(a)(iii)(A) of E.O. 13936, that You Quan, Sun Wenqing AKA Sun Qingye, and Tam Yiu-Chung, are or have been leaders or officials of entities, including any government entity, that have engaged in, or whose members have engaged in, developing, adopting, or implementing the National Security Law.

The Secretary of State has determined, pursuant to section 4(a)(iii)(A) of E.O. 13936, that Frederic Choi Chin-Pang, Kelvin Kong Hok Lai, and Andrew Kan Kai Yan are foreign persons who are or have been leaders or officials of an entity, including any government entity, that has engaged in, or whose members have engaged in, coercing, arresting, detaining or imprisoning individuals under the authority of, or in developing, adopting, or implementing, the National Security Law.

These persons have been added to the list of Specially Designated Nationals and Blocked Persons List and all property and interests in property subject to U.S. jurisdiction of these individuals are blocked, and U.S. persons are generally prohibited from engaging in transactions with them.

Peter D. Haas,
Acting Assistant Secretary, Bureau of Economic and Business Affairs, Department of State.

[FR Doc. 2021-02367 Filed 2-4-21; 8:45 am]

BILLING CODE 4710-AE-P